SMALL BUSINESS ADMINISTRATION

[Declaration of Disaster #3459, Amdt. # 4]

State of Texas

In accordance with a notice received from the Federal Emergency Management Agency, dated November 20, 2002, the above numbered declaration is hereby amended to include Brazoria, Cameron, Fort Bend, Hidalgo, Jasper, Kleburg, and San Jacinto Counties in the State of Texas as a disaster area due to damages caused by severe storms, tornadoes, and flooding occurring on October 24, 2002, and continuing through November 15, 2002.

In addition, applications for economic injury loans from small businesses located in Angelina, Austin, Jim Hogg, Kenedy, Matagorda, Sabine, San Augustine, Starr, Trinity, Wharton and Willacy Counties in the State of Texas may be filed until the specified date at the previously designated location. All other counties contiguous to the above named primary counties have been previously declared.

All other information remains the same, i.e., the deadline for filing applications for physical damage is January 6, 2003, and for economic injury the deadline is August 5, 2003.

(Catalog of Federal Domestic Assistance Program Nos. 59002 and 59008).
Dated: November 27, 2002.
Herbert L. Mitchell,
Associate Administrator for Disaster Assistance.

[FR Doc. 02-30815 Filed 12-4-02; 8:45 am]

BILLING CODE 8010-01-P